DEPARTMENT OF THE INTERIOR

Geological Survey

[GX13SB00C2G9100]

Agency Information Collection Activities: Request for Comments

AGENCY: U.S. Geological Survey (USGS), Interior.

ACTION: Notice of revision of a currently approved information collection, (1028-0107).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on November 30, 2016.

DATE: To ensure that your comments on this ICR are considered, OMB must receive them on or before December 12, 2016.

ADDRESSES: Please submit written comments on this information collection directly to the Office of Management and Budget (OMB), Office of Information and Regulatory Affairs, Attention: Desk Officer for the Department of the Interior, via email: (OIRA_@omb.eop.gov); or by fax (202) 395-5806; and identify your submission with `OMB Control Number 1028-0107, Economic Contribution of Federal Investments in Restoration of Degraded, Damaged, or Destroyed Ecosystems'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0107, Economic Contribution of Federal Investments in Restoration of Degraded, Damaged, or Destroyed Ecosystems' in all correspondence.

FOR FURTHER INFORMATION CONTACT: Catherine Cullinane Thomas, Fort Collins Science Center, U.S. Geological Survey, 2150 Centre Ave., Fort Collins, CO 80526 (mail); 970-226-9164 (phone); or ccullinanethomas@usgs.gov (email). You may also find information about this ICR at www.reginfo.gov.

SUPPLEMENTARY INFORMATION:

I. Abstract

Federal investments in ecosystem restoration projects protect Federal trusts, ensure public health and safety, and preserve and enhance essential ecosystem services. These investments also generate business activity and create jobs. The Economic Impacts of Ecosystem Restoration project aims to increase the availability of information on the costs and activities associated with ecosystem restoration, and to gauge the economic effects of these investments to local economies. The project is comprised of a series of case studies that quantify the economic impacts of restoration projects. The case studies include examples of collaboratively funded and managed projects to restore a wide range of degraded, damaged, or destroyed ecosystems. In addition to providing improved information on the economic impacts of restoration, these case studies highlight DOI restoration efforts and tell personalized stories about each project and the communities that are positively affected by restoration activities. Project methods include the collection of primary expenditure data and economic input/output modeling. Results from the first phase of case studies are available online at https://www.fort.usgs.gov/economic-impacts-restoration and in a USGS report titled `Estimating the economic impacts of ecosystem restoration—methods and case studies'. The report provides a detailed description of the methods used to estimate economic impacts of case study projects and also provides suggestions, lessons learned, and trade-offs between potential analysis methods. This second phase of case studies aims to refine the survey methods and fill in some data gaps on specific types of restoration activities.

II. Data

OMB Control Number: 1028-0107.

Form Number: 2 forms, not numbered.

Title: Economic Contribution of Federal Investments in Restoration of Degraded, Damaged, or Destroyed Ecosystems.

Type of Request: Revision of a currently approved information collection.

Respondent Obligation: None, participation is voluntary.

Frequency of Collection: One time only.

Description of Respondents: Restoration project managers working on selected case study restoration projects; this includes project managers from state and local government, and from non-profit industry.

Estimated Total Number of Annual Responses: We expect to do up to 10 case studies per year, and many of these case studies will have Federal project managers.

Estimated Time per Response: We estimate that it will take approximately 3.5 hours per person to complete the surveys, including correspondence time.

Estimated Annual Burden Hours: 21 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On July 1, 2016, we published a Federal Register notice (81 FR 43224) announcing that we would submit this ICR to OMB for approval and soliciting comments. The comment period closed on August 30, 2016. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

William Lellis,
Acting Associate Director, Ecosystems.

[FR Doc. 2016-27194 Filed 11-9-16; 8:45 am]

BILLING CODE 4338-11-P